DEPARTMENT OF LABOR

Employment and Training Administration

[TA-W-54,479]

SCA Packaging, Formerly Tuscarora, Inc., Streator, IL; Dismissal of Application for Reconsideration

Pursuant to 29 CFR 90.18(C) an application for administrative reconsideration was filed with the Director of the Division of Trade Adjustment Assistance for workers at SCA Packaging, formerly Tuscarora, Inc., Streator, Illinois. The application contained no new substantial information which would bear importantly on the Department's determination. Therefore, dismissal of the application was issued.

TA-W-54,479; SCA Packaging Formerly Tuscarora, Inc., Streator, Illinois (June 25, 2004)

Signed at Washington, DC, this 25th day of June, 2004.
Timothy Sullivan,
Director, Division of Trade Adjustment Assistance.

[FR Doc. 04-14924 Filed 6-30-04; 8:45 am]

BILLING CODE 4510-30-P